DEPARTMENT OF THE INTERIOR

Bureau of Land Management

[BLM_NV_FRN_MO4500177954]

Notice of Intent To Prepare an Environmental Impact Statement for the Proposed North Bullfrog Mine Project, Nye County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Tonopah Field Office, Battle Mountain, Nevada intends to prepare an Environmental Impact Statement (EIS) to consider the effects of Corvus Gold Nevada, Inc.'s (Corvus) North Bullfrog Mine Project (Project) in Nye County, Nevada. This notice announces the beginning of the scoping process to solicit public comments and identify issues and alternatives; it also serves to initiate public consultation, as required, under the National Historic Preservation Act (NHPA).

DATES: This notice initiates the public scoping process for the EIS. The BLM requests that the public submit comments concerning the scope of the analysis, potential alternatives, and identification of relevant information and studies, no later than 30 days after the date of publication in the Federal Register. To afford the BLM the opportunity to consider comments in the Draft EIS, please ensure your comments are received prior to the close of the 30-day scoping period or 15 days after the last public meeting, whichever is later. In-person public scoping meetings will be held during the public scoping period, the dates of which are to be determined.

ADDRESSES: You may submit comments related to the North Bullfrog Mine Project by any of the following methods:

• Website: https://eplanning.blm.gov/eplanning-ui/admin/project/2031869/510

• Email: blm_nv_bmdo_p&ec_nepa@blm.gov

• Fax: (775) 635-4034

• Mail: BLM Battle Mountain District Office, Attn: North Bullfrog Mine Project, 50 Bastian Road, Battle Mountain, NV 89820

Documents pertinent to this proposal may be examined online at https://eplanning.blm.gov/eplanning-ui/admin/project/2031869/510 and at the Tonopah Field Office.

FOR FURTHER INFORMATION CONTACT: Gene Gilseth, Project Manager, telephone: (775) 635-4020; address: BLM Battle Mountain District Office, Attn: North Bullfrog Mine Project, 50 Bastian Road, Battle Mountain, NV 89820; email: egilseth@blm.gov. Contact Mr. Gilseth to have your name added to our mailing list. Individuals in the United States who are deaf, deafblind, hard of hearing, or have a speech disability may dial 711 (TTY, TDD, or TeleBraille) to access telecommunications relay services for contacting Mr. Gilseth. Individuals outside the United States should use the relay services offered within their country to make international calls to the point-of-contact in the United States.

SUPPLEMENTARY INFORMATION: Based on the submitted proposed plan of operations (Plan), Corvus is proposing to construct, operate, close, and reclaim a new surface mine at the northern end of the Bullfrog Hills, south of Sarcobatus Flat, in Nye County, Nevada, approximately nine miles north of the Town of Beatty.

The proposed North Bullfrog Mine Plan boundary would encompass 6,298 acres, including approximately 5,402 acres of public lands and 896 acres of private land. The total disturbance associated with the proposed action would be 3,518.4 acres, including 3,436.4 acres of new surface disturbance and 82 acres of existing exploration disturbance. Of the new surface disturbance, approximately 3,077.2 acres would occur on BLM-administered public lands, and 359.2 acres would occur on private lands. Of the existing exploration surface disturbance, 61.2 acres is on BLM-administered public lands, and 20.8 acres is on private lands. The proposed surface mining activities for the North Bullfrog Mine would include:

• Three open pits: the Sierra Blanca Open Pit (which would include the Sierra Blanca pit area, Yellow Jacket pit area, and Savage Valley pit area); the Jolly Jane Open Pit; and the Mayflower Open Pit;

• Four overburden storage areas (OSAs);

• An ore crushing and conveying system;

• A gravity mill circuit with cyanide tank leaching;

• Carbon-in-columns;

• Ore stockpiles;

• Growth media stockpiles;

• A power sub-station, solar field (located within the yard area), and associated distribution system;

• A heap leach facility (HLF) including the heap leach pad (HLP) with solution channels, associated process solution tanks, and ponds;

• A water supply well field and open pit dewatering system (wells, pipelines, and pipeline corridor);

• Stormwater diversion channels and stormwater sediment basins;

• An adsorption desorption and recovery plan, refinery, and an assay laboratory;

• Access and haul roads;

• Ancillary facilities including a septic and potable water supply system, and associated maintenance area; reagent and fuel storage; stormwater controls; parking areas; lighting; growth media stockpile; water truck refill stations; emergency helipads; fencing; communication trailers; storage and laydown yards; a meteorological station; a warehouse; a truck maintenance shop; a truck wash; offices; a metallurgical laboratory; change/lunch facilities; an administration/security building; and solid and hazardous waste management facilities;

• Continued surface exploration; and

• Reclamation and closure, including the development of evapotranspiration cells.

The Project would contract a short-term maximum of 530 employees during the 12- to 18-month construction period, and approximately 230 employees during active mining and processing.

As proposed, the project would operate 24 hours per day, 365 days per year. The total life of the project would be up to 20 years, including 1 year of pre-mining and construction, 12 years of mining, 2 to 3 additional years of active gold recovery on the HLP, mine reclamation activities, and 3 to 4 additional years of heap rinsing, reclamation, and closure activities. Reclamation of disturbed areas resulting from mining operations would be completed in accordance with BLM and Nevada Division of Environmental Protection regulations. Concurrent reclamation would take place where practicable and safe.

Purpose and Need for the Proposed Action

The BLM's purpose is to respond to Corvus's proposal as described in the Plan and to analyze the environmental effects associated with the proposed action and alternatives. NEPA mandates that the BLM evaluate the effects of the proposed action and develop alternatives.

The need for action is established by the BLM's responsibilities, under section 302 of FLPMA and the BLM Surface Management Regulations at 43 CFR 3809, to respond to a Plan submitted by an applicant to exercise their rights under the General Mining Law of 1872, and to prevent unnecessary or undue degradation of public lands as a result of the actions taken to prospect, explore, assess, develop, and process locatable minerals resources on public lands.

Preliminary Proposed Action and Alternatives

The proposed action consists of the Plan as submitted by Corvus. Additional alternatives to be considered at this time include the No Action Alternative and a Revised Mill Location Alternative.

Under the No Action Alternative, the development of the North Bullfrog Mine Project would not be authorized, and Corvus would not construct, operate, and close a new surface mine. Existing exploration activities would continue per previous authorizations.

The Revised Mill Location Alternative would include consolidation of processing facilities to a central location, a revised HLF design requiring only one single process pond, and elimination of the need for a large hillside cut for the proposed run-of-mine (ROM) stockpile, resulting in reduced air emissions by eliminating the mining activity required to build the ROM stockpile and reducing travel distance to the mill site. Additionally, the footprint of the Jolly Jane OSA would be reduced by 22.8 acres due to a proposed redesign for avoidance of cultural resources. Overall, surface disturbance under this alternative would be 130 acres less than the proposed action.

The BLM welcomes comments on all preliminary options as well as suggestions for additional alternatives to be considered.

Summary of Expected Impacts

Primary impacts from the North Bullfrog Mine Project that will be analyzed in the EIS include potential impacts to cultural resources and Native American traditional values; wildlife resources, including threatened and endangered and special status species; aesthetics (visual and noise); air quality, including climate change and greenhouse gases; water resources (surface and groundwater); traffic generation; livestock grazing; and vegetation and soil resources. A summary of potential impacts include:

• Cultural Resources and Native American Traditional Values: There are 34 historic properties that may potentially be affected by the proposed action within the physical and/or vibrational, auditory, and visual areas of potential effects. There are an additional eight sites that are currently identified as unevaluated that may be affected by the Project. Of these 42 cultural resources, it was determined that 22 currently unevaluated or National Register of Historic Places (NRHP)-eligible and the NRHP-eligible Wild Burro Archaeological District would be adversely impacted from physical, vibrational, and/or visual effects resulting from the Project.

• Water Resources (Surface and Groundwater): The Project involves groundwater pumping to allow mining below the water table at the Sierra Blanca and Jolly Jane Open Pits. No dewatering requirements are anticipated at the Mayflower Open Pit. Dewatering operations would result in a lowering of the local groundwater table, with estimated recovery of the groundwater table to pre-mining conditions being approximately 85 to 200 years from the end of pit dewatering, depending on the location of the drawdown. Mining in the Mayflower Pit would occur entirely above the natural water table and as a result a pit lake is not expected to form at closure. The Sierra Blanca Pit and Jolly Jane Pit would be backfilled up to approximately 3,970 feet above mean sea level to eliminate the formation of a pit lake. Potential impacts to seep, spring, and stream flow may occur within the maximum extent of the 10-foot drawdown from proposed dewatering operations if the source of the water is connected to the regional aquifer feeding these surface water features. A monitoring and mitigation plan is currently being developed to address these potential impacts. Sedimentation and erosion may also occur due to Project-related disturbance, but this would be addressed through appropriate mine design requirements.

• Wildlife Resources: Potential impacts include habitat modifications, habitat loss, potential impacts to water sources from dewatering induced drawdown from the Project, fatalities as a result of collisions with vehicles, displacement due to human activity and disturbance, and fragmentation from impediments to movement through the project area.

• Threatened and Endangered Species: Federally listed species that have been documented or may be present in the project area include the southwestern willow flycatcher (Empidonax traillii extimus), yellow-billed cuckoo (Coccyzus americanus), and the Mojave Desert tortoise (Gopherus agassizii). No direct impacts to the yellow-billed cuckoo or southwest willow flycatcher would be anticipated from the proposed action, though indirect impacts may occur from potential dewatering induced drawdown at spring sites and riparian areas where these species potentially occur. The proposed action is anticipated to disturb certain vegetation communities that support Mojave Desert tortoise, and Mojave Desert tortoise have been documented within the Project Area. Compliance with section 7 of the Endangered Species Act (16 United States Code 1536) will be required to address potential impacts to the Mojave Desert tortoise.

• BLM Special Status Species: Special status species that have been documented in the vicinity of the project area include the Amargosa toad (Anaxyrus nelson), Oasis Valley speckled dace (Rhinichthys osculus), Oasis Valley springsnail (Pyrgulopsis micrococcus), brewer's sparrow (Spizella breweri), loggerhead shrike (Lanius ludovicianus), burrowing owl (Athene cunicularia), ferruginous hawk (Buteo regalis), golden eagle (Aquila chrysaetos), pallid bat (Antrozous pallidus), Brazilian free-tailed bat (Tadarida brasiliensis), California myotis (Myotis californicus), canyon bat (Parastrellus Hesperus), fringed myotis (Myotis thysanodes), desert bighorn sheep (Ovis canadensis nelson), desert horned lizard (Phrynosoma platyrhinos), Great Basin collared lizard (Crotaphytus bicinctores), and long-nosed leopard lizard (Gambelia wislizenii). Potential impacts include habitat modifications, habitat loss, potential impacts to water sources from dewatering induced drawdown from the Project, displacement due to human activity and disturbance, and fragmentation from impediments to movement through the project area. Impacts to special status aquatic species may include potential impacts from dewatering induced drawdown at spring sites and riparian areas where these species are known to occur. A monitoring and mitigation plan is currently being developed to address potential impacts to special status aquatic species.

• Aesthetics (visual and noise): Potential impacts to visual resources include the addition of form, line, texture, and color to the existing landscape from proposed Project features. Potential noise impacts include an increase in noise generation in the vicinity of the Project.

• Air Quality: Air quality modeling has determined that impacts from the proposed action would not exceed National Ambient Air Quality Standards for particulate matter 10 microns in diameter or less (PM10), particulate matter 2.5 microns in diameter or less (PM2.5), carbon monoxide (CO), nitrogen oxide (NOX), and sulfur oxide (SO2). Total facility-wide Hazardous Air Pollutants (HAP) are estimated to be 7.28 tons per year (tpy), with 5.07 tpy of the highest single HAP, hydrogen cyanide. Greenhouse gas emissions (measured in carbon dioxide equivalent (CO2e)) from operations are estimated at a maximum of 102,692 tpy CO2e, which includes process sources, fugitive sources, and mobile mining equipment. Potential ozone (O3) impacts are estimated at 0.75 parts per billion (ppb), which is below the O3 Significant Impact Level of 1 ppb and therefore considered insignificant. Mercury emissions are estimated to be 16.7 pounds per year, which would be less than 0.44 percent contribution to the global background deposition within the two adjacent hydrographic basins.

• Traffic: Traffic on transportation routes within the area of analysis would potentially increase by up to 120 Annual Average Daily Traffic (AADT) during construction, and 88 AADT during operations. The addition of project traffic is not anticipated to lower the level of service of the roadways and intersections, which are all currently at an acceptable level of service. Corvus is proposing to coordinate with the Nevada Department of Transportation to add turn lane improvements at the intersection of Strozzi Ranch Road and US 95 to further reduce any potential impacts from heavy vehicle traffic entering and exiting the Project.

• Livestock Grazing: The proposed action would impact forage utilized by livestock as a result of new surface disturbance of up to 3,436.4 acres. Approximately two Animal Unit Months (268.3 acres) would be impacted in the Razorback Allotment, South Montezuma Pasture. This would represent less than 0.1 percent of the overall permitted use in the allotment.

• Vegetation and Soils: The proposed action would result in new disturbance to soil and removal of vegetation on 3,436.4 acres, in additional to 82 acres of existing or acknowledged exploration for a total disturbance of 3,518.4 acres.

Schedule for the Decision-Making Process

The BLM will provide additional opportunities for public participation consistent with the NEPA process, including a 45-day comment period on the Draft EIS. The Draft EIS is anticipated to be available for public review in Summer 2024 and the Final EIS is anticipated to be released in Winter 2025 with a Record of Decision in Winter 2025.

Public Scoping Process

This notice of intent initiates the scoping period. The BLM will hold two virtual public scoping meetings. The specific dates and times of these scoping meetings will be announced in advance through local newspaper publications and the BLM National NEPA Register Project page at https://eplanning.blm.gov/eplanning-ui/admin/project/2031869/510.

Lead and Cooperating Agencies

The BLM Tonopah Field Office is serving as the lead federal agency for preparing the EIS. Cooperating agencies for this analysis include the U.S. Environmental Protection Agency, U.S. Fish and Wildlife Service, Nevada Department of Wildlife, Nye County, and Town of Beatty.

Responsible Official

Douglas W. Furtado, District Manager, Battle Mountain District Office

Nature of Decision To Be Made

The BLM's decision for the North Bullfrog Mine Project will consider the following: (1) whether to approve the proposed Project Plan to authorize the proposed activities without modifications or additional mitigation measures; (2) whether to approve the proposed Project Plan with additional mitigation measures that the BLM deems necessary to prevent unnecessary or undue degradation of public lands; (3) whether to approve an alternative analyzed in the EIS for the North Bullfrog Mine Project; or (4) denial of the proposed Project Plan and associated activities.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation, and may be considered at multiple scales, including the landscape scale.

The BLM will utilize and coordinate the NEPA process to help support compliance with applicable procedural requirements under the Endangered Species Act (16 U.S.C. 1536) and section 106 of the NHPA (54 U.S.C. 306108) as provided in 36 CFR 800.2(d)(3), including public involvement requirements of section 106. Information about historic and cultural resources and threatened and endangered species within the area potentially affected by the proposed plan will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and other stakeholders that may be interested in or affected by the proposed North Bullfrog Mine Project, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9)

Douglas W. Furtado,
District Manager, Battle Mountain District.

[FR Doc. 2024-07423 Filed 4-8-24; 8:45 am]

BILLING CODE P